DEPARTMENT OF HOMELAND SECURITY

Coast Guard

[USCG-2005-21609]

Navigation Safety Advisory Council; Vacancies

AGENCY: Coast Guard, DHS.

ACTION: Request for applications.

SUMMARY: The Coast Guard seeks applications for membership on the Navigation Safety Advisory Council (NAVSAC). NAVSAC provides advice and makes recommendations to the Secretary on matters relating to prevention of collisions, groundings, and rammings.

DATES: Application forms should reach us on or before September 1, 2005.

ADDRESSES: You may request an application form by writing to NAVSAC Application, Commandant (G-MW), Room 1406, U.S. Coast Guard, 2100 Second Street, SW., Washington, DC 20593-0001; by calling 202-267-2384; or by faxing 202-267-4700. Send your original completed and signed application in written form to the above street address. This notice and the application are available on the Internet at http://dms.dot.gov and the application form is also available at http://www.uscg.mil/hq/g-m/advisory/index.htm.

FOR FURTHER INFORMATION CONTACT: Mr. John Bobb; Assistant Executive Director of NAVSAC, telephone 202-267-2384, fax 202-267-4700, or e-mail jbobb@comdt.uscg.mil.

SUPPLEMENTARY INFORMATION: The Navigation Safety Advisory Council (NAVSAC) is a Federal advisory committee under 5 U.S.C. App. 2. It advises the Secretary on matters relating to prevention of collisions, groundings, and rammings. This includes but is not limited to: Inland and International Rules of the Road, navigation regulations and equipment, routing measures, marine information, diving safety, and aids to navigation systems. This advice also assists the Coast Guard in formulating the position of the United States in advance of meetings of the International Maritime Organization.

NAVSAC meets at least twice a year at Coast Guard Headquarters, Washington, DC, or another location selected by the Coast Guard. It may also meet for extraordinary purposes. Its working groups may meet to consider specific problems as required. We will consider applications for eight positions that are vacant or whose terms will expire in November 2005 as follows: three members who are recognized experts and leaders in organizations having an active interest in Rules of the Road and vessel and port safety; two members with an interest in maritime law (individuals selected for these two categories should reflect a geographical balance); one member who is a federal or state official with responsibility for vessel and port safety; one member from recreational boating; and one member representing professional mariners. To be eligible, applicants should have particular expertise, knowledge, and experience in the Inland and International Rules of the Road, Aids to Navigation, Navigation Safety Equipment, Vessel Traffic Service, Traffic Separation Schemes and Vessel Routing. Each member serves for a term of up to three years. A few members may serve consecutive terms. All members serve at their own expense but receive reimbursement for travel and per diem expenses from the Federal Government.

In support of the policy of the Department of Homeland Security on gender and ethnic diversity, we encourage qualified women and members of minority groups to apply.

Dated: June 17, 2005.
Howard L. Hime,
Acting Director of Standards, Marine Safety, Security and Environmental Protection.

[FR Doc. 05-12539 Filed 6-23-05; 8:45 am]

BILLING CODE 4910-15-P